FEDERAL COMMUNICATIONS COMMISSION

47 CFR Part 73

[DA 03-155; MB Docket No. 02-351 RM-10601]

Radio Broadcasting Services; Blanket, TX

AGENCY: Federal Communications Commission.

ACTION: Final rule.

SUMMARY: In this document, the Commission allots Channel 284A at Blanket, Texas, as the community's first local FM transmission service in response to a petition filed by Robert Fabian. See 67 FR 71926 (December 3, 2002). Channel 284A can be allotted at Goliad, Texas, without a site restriction at coordinates 31-49-24 and 98-47-12. With this action, this proceeding is terminated. A filing window for channel 284A at Blanket will not be opened at this time. Instead, the issue of opening this allotment for auction will be addressed by the Commission in a subsequent order.

DATES: Effective March 3, 2003.

FOR FURTHER INFORMATION CONTACT: Kathleen Scheuerle, Media Bureau, (202) 418-2180.

SUPPLEMENTARY INFORMATION: This is a synopsis of the Commission's Report and Order, MB Docket No. 02-351, adopted January 15, 2003, and released January 17, 2003. The full text of this Commission decision is available for inspection and copying during normal business hours in the Commission's Reference Center, 445 12th Street, SW, Washington, DC. The complete text of this decision may also be purchased from the Commission's copy contractors, Qualex International, Portals II, 445 12th Street, SW, Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Blanket, Channel 284A.

Federal Communications Commission.
John A. Karousos,
Assistant Chief, Audio Division, Media Bureau.

[FR Doc. 03-2668 Filed 2-4-03; 8:45 am]

BILLING CODE 6712-01-P